DEPARTMENT OF TRANSPORTATION

Federal Motor Carrier Safety Administration

[Docket No. FMCSA-2025-0014]

Qualification of Drivers; Exemption Applications; Epilepsy and Seizure Disorders

AGENCY: Federal Motor Carrier Safety Administration (FMCSA), Department of Transportation (DOT).

ACTION: Notice of applications for exemption; request for comments.

SUMMARY: FMCSA announces receipt of applications from 63 individuals for an exemption from the prohibition in the Federal Motor Carrier Safety Regulations (FMCSRs) against persons with a clinical diagnosis of epilepsy or any other condition that is likely to cause a loss of consciousness or any loss of ability to control a commercial motor vehicle (CMV) to drive in interstate commerce. If granted, the exemptions would enable these individuals who have had one or more seizures and are taking anti-seizure medication to operate CMVs in interstate commerce.

DATES: Comments must be received on or before February 27, 2026.

ADDRESSES: You may submit comments identified by Docket No. FMCSA-2025-0014 using any of the following methods:

• Federal eRulemaking Portal: Go to www.regulations.gov, insert the docket number (FMCSA-2025-0014) in the keyword box and click “Search.” Next, choose the only notice listed, and click on the “Comment” button. Follow the online instructions for submitting comments.

• Mail: Dockets Operations; U.S. Department of Transportation, 1200 New Jersey Avenue SE, West Building Ground Floor, Washington, DC 20590-0001.

• Hand Delivery: West Building Ground Floor, 1200 New Jersey Avenue SE, Washington, DC 20590-0001 between 9 a.m. and 5 p.m. ET Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine Hydock, Chief, Medical Programs Division, FMCSA, DOT, 1200 New Jersey Avenue SE, Washington, DC 20590-0001, (202) 266-4001, fmcsamedical@dot.gov. Office hours are 8:30 a.m. to 5 p.m. ET Monday through Friday, except Federal holidays. If you have questions regarding viewing or submitting material to the docket, contact Dockets Operations, (202) 366-9826.

SUPPLEMENTARY INFORMATION:

I. Public Participation

A. Submitting Comments

If you submit a comment, please include the docket number for this notice (Docket No. FMCSA-2025-0014), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2025-0014. Next, choose the only notice listed, click the “Comment” button, and type your comment into the text box on the following screen. Choose whether you are submitting your comment as an individual or on behalf of a third party and then submit.

If you submit your comments by mail or hand delivery, submit them in an unbound format, no larger than 8½ by 11 inches, suitable for copying and electronic filing. FMCSA will consider all comments and material received during the comment period.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments

To view comments, go to www.regulations.gov, insert the docket number (FMCSA-2025-0014) in the keyword box and click “Search.” Next, choose the only notice listed, and click “Browse Comments.” If you do not have access to the internet, you may view the docket online by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

D. Privacy Act

In accordance with 49 U.S.C. 31315(b)(6), DOT solicits comments from the public on the exemption request. DOT posts these comments, including any personal information the commenter provides, to www.regulations.gov, as described in the system of records notice DOT/ALL-14 FDMS (Federal Docket Management System), which can be reviewed under the “Department Wide System of Records Notices” link at https://www.transportation.gov/individuals/privacy/privacy-act-system-records-notices. The comments are posted without edit and are searchable by the name of the submitter.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

The physical qualification standard for drivers regarding seizures and loss of consciousness provides that a person is physically qualified to drive a CMV if that person has “no established medical history or clinical diagnosis of epilepsy or any other condition which is likely to cause the loss of consciousness or any loss of ability to control” a CMV (49 CFR 391.41(b)(8)). To assist in applying this standard, FMCSA publishes guidance for medical examiners (ME) in the form of medical advisory criteria in Appendix A to 49 CFR part 391.¹ In 2007, FMCSA published recommendations from a Medical Expert Panel (MEP) that FMCSA tasked to review the existing seizure disorder guidelines for MEs.² The MEP performed a comprehensive, systematic literature review, including evidence available at the time. The MEP issued recommended criteria to evaluate whether an individual with a history of epilepsy, a single unprovoked seizure, or a provoked seizure should be allowed to drive a CMV.

¹ Appendix A to Part 391, Title 49, available at https://www.ecfr.gov/current/title-49/part-391/appendix-Appendix A to Part 391.

² “Expert Panel Recommendations, Seizure Disorders and Commercial Motor Vehicle Driver Safety,” Medical Expert Panel (Oct. 15, 2007), available at https://www.fmcsa.dot.gov/sites/fmcsa.dot.gov/files/2020-04/Seizure-Disorders-MEP-Recommendations-v2-prot%2010152007.pdf.

On January 15, 2013, FMCSA began granting exemptions, on a case-by-case basis, to individual drivers from the physical qualification standard regarding seizures and loss of consciousness in 49 CFR 391.41(b)(8) (78 FR 3069). The Agency considers the medical advisory criteria, the 2007 MEP recommendations, any public comments received, and each individual's medical information and driving record in deciding whether to grant the exemption.

The 63 individuals listed in this notice have requested an exemption from the epilepsy and seizure disorders prohibition in 49 CFR 391.41(b)(8). Accordingly, the Agency will evaluate the qualifications of each applicant to determine whether granting the exemption will achieve the required level of safety mandated by statute.

IV. Qualifications of Applicants

Shane A. Andrzejewski

Shane A. Andrzejewski is a 36-year-old class DM license holder in South Carolina. He has a history of focal epilepsy and has been seizure free since January 2001. He takes an anti-seizure medication with the dosage and frequency remaining the same since June 2018. His physician states that they are supportive of him receiving an exemption.

Robert Baschwit

Robert Baschwit is a 34-year-old class A commercial driver's license (CDL) holder in Indiana. He has a history of generalized provoked seizures and has been seizure free since July 26, 2024. He takes an anti-seizure medication with the dosage and frequency remaining the same since December 10, 2024. His physician states that they are supportive of him receiving an exemption.

Paul Beadle

Paul Beadle is a 40-year-old class D license holder in Arizona. He has a history of focal seizures and has been seizure free since 2011. He takes an anti-seizure medication with the dosage and frequency remaining the same since 2011. His physician states that they are supportive of him receiving an exemption.

Daniel Billington

Daniel Billington is a 37-year-old class D license holder in Idaho. He has a history of tonic-clonic seizures and has been seizure free since 2011. He takes an anti-seizure medication with the dosage and frequency remaining the same since August 2011. His physician states that they are supportive of him receiving an exemption.

Lee R. Blumer

Lee R. Blumer is a 52-year-old class D enhanced license holder in Minnesota. He has a history of focal epilepsy and has been seizure free since 2008. He takes an anti-seizure medication with the dosage and frequency remaining the same since 2022. His physician states that they are supportive of him receiving an exemption.

Zaire Bowman

Zaire Bowman is a 29-year-old class D license holder in New Jersey. He has a history of generalized epilepsy and has been seizure free since October 2017. He takes an anti-seizure medication with the dosage and frequency remaining the same since November 2021. His physician states that they are supportive of him receiving an exemption.

Allen Bradley

Allen Bradley is a 28-year-old class D license holder in Alabama. He has a history of epilepsy and has been seizure free since September 2010. He takes an anti-seizure medication with the dosage and frequency remaining the same since 2023. His physician states that they are supportive of him receiving an exemption.

Aaron Brammer

Aaron Brammer is a 43-year-old class A CDL holder in Iowa. He has a history of epilepsy and has been seizure free since 2001. He takes an anti-seizure medication with the dosage and frequency remaining the same since 2015. His physician states that they are supportive of him receiving an exemption.

Jools Brandt

Jools Brandt is a 68-year-old class B enhanced license holder in Minnesota. He has a history of epileptic seizures and has been seizure free since 1996. He takes an anti-seizure medication with the dosage and frequency remaining the same since 2021. His physician states that they are supportive of him receiving an exemption.

Jimmie Burts

Jimmie Burts is a 36-year-old class C license holder in Maryland. He has a history of a head injury and has been seizure free since July 2015. He takes an anti-seizure medication with the dosage and frequency remaining the same since December 2015. His physician states that they are supportive of him receiving an exemption.

Carlos Colon

Carlos Colon is a 45-year-old class D license holder in Idaho. He has a history of partial epilepsy and has been seizure free since 2006. He takes an anti-seizure medication with the dosage and frequency remaining the same since 2006. His physician states that they are supportive of him receiving an exemption.

Rodney Cook

Rodney Cook is a 50-year-old class C license holder in Maryland. He has a history of focal epilepsy and has been seizure free since 2002. He takes an anti-seizure medication with the dosage and frequency remaining the same since 2005. His physician states that they are supportive of him receiving an exemption.

Victor Cox

Victor Cox is a 52-year-old class C license holder in North Carolina. He has a history of idiopathic generalized epilepsy and has been seizure free since May 2017. He takes an anti-seizure medication with the dosage and frequency remaining the same since July 2017. His physician states that they are supportive of him receiving an exemption.

Michael Curtin

Michael Curtin is a 62-year-old class DM license holder in New York. He has a history of seizures and has been seizure free since September 2017. He takes an anti-seizure medication with the dosage and frequency remaining the same since July 2020. His physician states that they are supportive of him receiving an exemption.

Franklin Todd Davis

Franklin Todd Davis is a 59-year-old class C license holder in Iowa. He has a history of seizure disorder and has been seizure free since December 2009. He takes an anti-seizure medication with the dosage and frequency remaining the same since 2008. His physician states that they are supportive of him receiving an exemption.

Larry Dillon

Larry Dillon is a 43-year-old class C license holder in Oregon. He has a history of generalized epilepsy and has been seizure free since June 2009. He takes an anti-seizure medication with the dosage and frequency remaining the same since August 2017. His physician states that they are supportive of him receiving an exemption.

Glenn Egan

Glenn Egan is a 50-year-old class A CDL holder in California. He has a history of epilepsy and has been seizure free since August 1, 2012. He takes an anti-seizure medication with the dosage and frequency remaining the same since October 14, 2020. His physician states that they are supportive of him receiving an exemption.

James Engelbrecht

James Engelbrecht is a 43-year-old class R license holder in Colorado. He has a history of epilepsy and has been seizure free since 2016. He takes an anti-seizure medication with the dosage and frequency remaining the same since February 2021. His physician states that they are supportive of him receiving an exemption.

Scott Engman

Scott Engman is a 52-year-old class D enhanced license holder in Minnesota. He has a history of seizure disorder and has been seizure free since 2009. He takes an anti-seizure medication with the dosage and frequency remaining the same since 2009. His physician states that they are supportive of him receiving an exemption.

Tary Freeman

Tary Freeman is a 42-year-old class A CDL holder in North Carolina. He has a history of generalized seizure disorder and has been seizure free since 2015. He takes an anti-seizure medication with the dosage and frequency remaining the same since February 28, 2019. His physician states that they are supportive of him receiving an exemption.

Vitorio Garcia

Vitorio Garcia is a 40-year-old class C license holder in California. He has a history of epilepsy and has been seizure free since 2015. He takes an anti-seizure medication with the dosage and frequency remaining the same since April 17, 2018. His physician states that they are supportive of him receiving an exemption.

Andre Gliwski

Andre Gliwski is a 52-year-old class D license holder in New York. He has a history of epilepsy and has been seizure free since 1994. He takes an anti-seizure medication with the dosage and frequency remaining the same since 1994. His physician states that they are supportive of him receiving an exemption.

Joshuah Gunter

Joshuah Gunter is a 43-year-old class AM CDL holder in South Carolina. He has a history of seizure disorder and has been seizure free since 2007. He takes an anti-seizure medication with the dosage and frequency remaining the same since 2015. His physician states that they are supportive of him receiving an exemption.

Cory Guyer

Cory Guyer is a 37-year-old class CM license holder in Georgia. He has a history of seizure disorder and has been seizure free since 1994. He takes an anti-seizure medication with the dosage and frequency remaining the same since 1994. His physician states that they are supportive of him receiving an exemption.

Maria Heider

Maria Heider is a 28-year-old class D license holder in Massachusetts. She has a history of unprovoked epilepsy and has been seizure free since 2012. She takes an anti-seizure medication with the dosage and frequency remaining the same since April 2016. Her physician states that they are supportive of her receiving an exemption.

Wendell Hines

Wendell Hines is a 62-year-old class R license holder in Colorado. He has a history of seizure disorder and has been seizure free since 2008. He takes an anti-seizure medication with the dosage and frequency remaining the same since 2008. His physician states that they are supportive of him receiving an exemption.

Jeffrey Hopkins

Jeffrey Hopkins is a 72-year-old class D license holder in Massachusetts. He has a history of unprovoked seizure and has been seizure free since 2016. He takes an anti-seizure medication with the dosage and frequency remaining the same since 2019. His physician states that they are supportive of him receiving an exemption.

Aaron Howe

Aaron Howe is a 27-year-old class D license holder in Utah. He has a history of epilepsy and has been seizure free since 2014. He takes an anti-seizure medication with the dosage and frequency remaining the same since 2014. His physician states that they are supportive of him receiving an exemption.

Kenneth Jacobs

Kenneth Jacobs is a 47-year-old class D license holder in Ohio. He has a history of petit mal without grand mal seizures and has been seizure free since 2007. He takes an anti-seizure medication with the dosage and frequency remaining the same since March 2021. His physician states that they are supportive of him receiving an exemption.

Luke Evan Jaeger

Luke Evan Jaeger is a 33-year-old class DM license holder in New York. He has a history of partial epilepsy and has been seizure free since 2013. He takes an anti-seizure medication with the dosage and frequency remaining the same since 2022. His physician states that they are supportive of him receiving an exemption.

Sophia Jaffas

Sophia Jaffas is a 28-year-old class C chauffer license holder in Michigan. She has a history of provoked seizure and has been seizure free since January 2024. She takes an anti-seizure medication with the dosage and frequency remaining the same since 2024. Her physician states that they are supportive of her receiving an exemption.

Michael Lemmon

Michael Lemmon is a 27-year-old regular license holder in Washington. He has a history of epilepsy and has been seizure free since 2014. He takes an anti-seizure medication with the dosage and frequency remaining the same since 2014. His physician states that they are supportive of him receiving an exemption.

Derik Malone

Derik Malone is a 54-year-old class D license holder in Utah. He has a history of single unprovoked seizure and has been seizure free for over 30 years. He takes an anti-seizure medication with the dosage and frequency remaining the same since 2015. His physician states that they are supportive of him receiving an exemption.

Adrian Martin

Adrian Martin is a 34-year-old class C license holder in Pennsylvania. He has a history of epilepsy and has been seizure free since 2005. He takes an anti-seizure medication with the dosage and frequency remaining the same since 2005. His physician states that they are supportive of him receiving an exemption.

Kale Maubach

Kale Maubach is an 18-year-old class C license holder in Texas. He has a history of benign rolandic epilepsy and has been seizure free since 2016. He does not take anti-seizure medication. His physician states that they are supportive of him receiving an exemption.

Nakia Merritt

Nakia Merritt is a 51-year-old class E license holder in West Virginia. He has a history of epilepsy and has been seizure free since August 18, 2016. He takes an anti-seizure medication with the dosage and frequency remaining the same since August 28, 2016. His physician states that they are supportive of him receiving an exemption.

Eric Milyard

Eric Milyard is a 56-year-old class A enhanced CDL holder in Washington. He has a history of seizure disorder and has been seizure free since 1988. He takes an anti-seizure medication with the dosage and frequency remaining the same since 2015. His physician states that they are supportive of him receiving an exemption.

Kyler Moss

Kyler Moss is a 32-year-old class D license holder in Wisconsin. He has a history of epilepsy and has been seizure free since June 2018. He takes an anti-seizure medication with the dosage and frequency remaining the same since January 2016. His physician states that they are supportive of him receiving an exemption.

Charlie Orand

Charlie Orand is a 29-year-old class D license holder in Oklahoma. He has a history of epilepsy and has been seizure free since May 2013. He takes an anti-seizure medication with the dosage and frequency remaining the same since 2013. His physician states that they are supportive of him receiving an exemption.

Thurman Pugh

Thurman Pugh is a 54-year-old class B CDL holder in Texas. He has a history of epilepsy and has been seizure free since July 2017. He takes an anti-seizure medication with the dosage and frequency remaining the same since November 2017. His physician states that they are supportive of him receiving an exemption.

Dana Ramspott

Dana Ramspott is a 61-year-old class B CDL holder in New Hampshire. He has a history of epileptic seizures and has been seizure free since 2000. He takes an anti-seizure medication with the dosage and frequency remaining the same since 2000. His physician states that they are supportive of him receiving an exemption.

David Richer

David Richer is a 45-year-old class O license holder in Michigan. He has a history of seizure disorder and has been seizure free since 1997. He takes an anti-seizure medication with the dosage and frequency remaining the same since 2000. His physician states that they are supportive of him receiving an exemption.

Jesse Rinck

Jesse Rinck is a 38-year-old class D license holder in Oklahoma. He has a history of seizures and has been seizure free since 2006. He takes an anti-seizure medication with the dosage and frequency remaining the same since 2006. His physician states that they are supportive of him receiving an exemption.

Lamar Royal

Lamar Royal is a 31-year-old class E, C enhanced chauffer's license holder in Michigan. He has a history of epilepsy and has been seizure free since 2015. He takes an anti-seizure medication with the dosage and frequency remaining the same since February 26, 2020. His physician states that they are supportive of him receiving an exemption.

Wily Santos

Wily Santos is a 42-year-old class A CDL holder in Rhode Island. He has a history of partial complex seizure and has been seizure free since 2015. He takes an anti-seizure medication with the dosage and frequency remaining the same since 2015. His physician states that they are supportive of him receiving an exemption.

Byron Serfling

Byron Serfling is a 28-year-old class C license holder in Oregon. He has a history of generalized epilepsy and has been seizure free since April 2016. He takes an anti-seizure medication with the dosage and frequency remaining the same since July 2020. His physician states that they are supportive of him receiving an exemption.

William Shelton

William Shelton is a 36-year-old class C license holder in Texas. He has a history of epilepsy and has been seizure free since January 15, 2008. He takes an anti-seizure medication with the dosage and frequency remaining the same since January 15, 2008. His physician states that they are supportive of him receiving an exemption.

Scottie Smith

Scottie Smith is a 44-year-old class C license holder in Maine. He has a history of epilepsy and has been seizure free since 2007. He takes an anti-seizure medication with the dosage and frequency remaining the same since 2015. His physician states that they are supportive of him receiving an exemption.

Matthew Tastad

Matthew Tastad is a 31-year-old class 1 license holder in South Dakota. He has a history of seizure disorder and has been seizure free since 2012. He takes an anti-seizure medication with the dosage and frequency remaining the same since September 4, 2012. His physician states that they are supportive of him receiving an exemption.

Roger Taylor

Roger Taylor is a 54-year-old class enhanced license holder in Washington. He has a history of unprovoked seizure and has been seizure free since November 6, 2020. He takes an anti-seizure medication with the dosage and frequency remaining the same since November 6, 2020. His physician states that they are supportive of him receiving an exemption.

Richard Tedford

Richard Tedford is a 33-year-old class E license holder in Missouri. He has a history of seizures and has been seizure free since 2016. He takes an anti-seizure medication with the dosage and frequency remaining the same since 2016. His physician states that they are supportive of him receiving an exemption.

Rick Teevens

Rick Teevens is a 55-year-old class A CDL holder in Massachusetts. He has a history of nocturnal seizures and has been seizure free since October 15, 1994. He takes an anti-seizure medication with the dosage and frequency remaining the same since 1994. His physician states that they are supportive of him receiving an exemption.

Wayne C. Thomsen

Wayne C. Thomsen is a 61-year-old class A CDL holder in Minnesota. He has a history of partial symptomatic epilepsy and has been seizure free since 1995. He takes an anti-seizure medication with the dosage and frequency remaining the same since 2019. His physician states that they are supportive of him receiving an exemption.

Anthony Thomson

Anthony Thomson is a 49-year-old class A CDL holder in Iowa. He has a history of seizures and has been seizure free since 2005. He takes an anti-seizure medication with the dosage and frequency remaining the same since January 2021. His physician states that they are supportive of him receiving an exemption.

Michael Timmons

Michael Timmons is a 40-year-old class D license holder in South Carolina. He has a history of focal epilepsy and has been seizure free since August 2016. He takes an anti-seizure medication with the dosage and frequency remaining the same since March 13, 2023. His physician states that they are supportive of him receiving an exemption.

Marcus Tovar

Marcus Tovar is a 39-year-old class C license holder in Georgia. He has a history of seizure disorder and has been seizure free since February 2017. He takes an anti-seizure medication with the dosage and frequency remaining the same since 2021. His physician states that they are supportive of him receiving an exemption.

Courey Veney

Courey Veney is a 28-year-old class C license holder in Maryland. He has a history of epilepsy and has been seizure free since 2017. He takes an anti-seizure medication with the dosage and frequency remaining the same since August 29, 2017. His physician states that they are supportive of him receiving an exemption.

Petr Voyku

Petr Voyku is a 27-year-old class D license holder in Tennessee. He has a history of epilepsy and has been seizure free since 2017. He takes an anti-seizure medication with the dosage and frequency remaining the same since 2020. His physician states that they are supportive of him receiving an exemption.

Amy Weaver

Amy Weaver is a 66-year-old class E, C enhanced chauffer's license holder in Michigan. She has a history of seizure disorder and has been seizure free since 2015. She takes an anti-seizure medication with the dosage and frequency remaining the same since January 2016. Her physician states that they are supportive of her receiving an exemption.

Jeremy Wolfe

Jeremy Wolfe is a 37-year-old class C license holder in Pennsylvania. He has a history of epilepsy and has been seizure free since 2013. He takes an anti-seizure medication with the dosage and frequency remaining the same since 2021. His physician states that they are supportive of him receiving an exemption.

John Wolfe

John Wolfe is a 65-year-old class AM license holder in Pennsylvania. He has a history of epilepsy and has been seizure free since 2008. He takes an anti-seizure medication with the dosage and frequency remaining the same since October 2008. His physician states that they are supportive of him receiving an exemption.

Christian Yesbeck

Christian Yesbeck is a 39-year-old class A CDL holder in Virginia. He has a history of focal onset seizures and has been seizure free since April 14, 2008. He takes an anti-seizure medication with the dosage and frequency remaining the same since October 31, 2018. His physician states that they are supportive of him receiving an exemption.

Michael Young

Michael Young is a 51-year-old class C license holder in New York. He has a history of seizure disorder and has been seizure free since May 2016. He takes an anti-seizure medication with the dosage and frequency remaining the same since 2016. His physician states that they are supportive of him receiving an exemption.

V. Request for Comments

In accordance with 49 U.S.C. 31136(e) and 31315(b), FMCSA requests public comment from all interested persons on the exemption applications described in this notice. FMCSA will consider all comments received before the close of business on the closing date indicated under the DATES section of the notice.

Larry W. Minor,
Associate Administrator for Policy.

[FR Doc. 2026-01678 Filed 1-27-26; 8:45 am]

BILLING CODE 4910-EX-P